ENVIRONMENTAL PROTECTION AGENCY

40 CFR Part 52

[EPA-R09-OAR-2014-0746; FRL-9924-49-Region 9]

Approval, Disapproval, and Limited Approval and Disapproval of Air Quality Implementation Plans; California; Monterey Bay Unified Air Pollution Control District; Stationary Source Permits

AGENCY: Environmental Protection Agency (EPA).

ACTION: Final rule.

SUMMARY: The Environmental Protection Agency (EPA) is taking final action to approve certain revisions to the Monterey Bay Unified Air Pollution Control District (MBUAPCD or District) portion of the applicable state implementation plan (SIP) for the State of California and to disapprove certain other revisions. This action was proposed in the Federal Register on October 15, 2014. These revisions include submittal of certain new or revised rules governing the issuance of permits for stationary sources, including review and permitting of minor sources, and major sources and major modifications under part C of title I of the Clean Air Act (CAA). EPA is taking this action under the Clean Air Act obligation to take action on State submittals of revisions to state implementation plans. The intended effect is to update the applicable SIP with current MBUAPCD permitting rules and set the stage for remedying certain deficiencies in these rules.

DATES: This rule is effective on April 27, 2015.

ADDRESSES: EPA has established docket number [EPA-R09-OAR-2014-0746] for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Laura Yannayon, EPA Region IX, by phone: (415) 972-3534 or by email at yannayon.laura@epa.gov.

SUPPLEMENTARY INFORMATION: Throughout this document, the terms “we,” “us,” and “our” refer to EPA.

Table of Contents

I. Proposed Action

II. Public Comment

III. EPA Action

IV. Incorporation by Reference

V. Statutory and Executive Order Reviews

I. Proposed Action

On October 15, 2014 (79 FR 61797), EPA proposed several actions in connection with certain revisions to the MBUAPCD portion of the California SIP submitted by the California Air Resources Board under the CAA. Table 1 lists the rules submitted for EPA action.

Table 1—Submitted Rules
Rule No. | Rule title | Adopted or revised | Submitted
200 | Permits Required | 12/13/00 | 5/8/01
203 | Application | 10/16/02 | 12/12/02
204 | Cancellation of Applications | 3/21/01 | 5/31/01
206 | Standards for Granting Applications | 3/21/01 | 5/31/01
207 | Review of New or Modified Sources | 4/20/11 | 5/12/11
208 | Standards for Granting Permits to Operate (Request to Repeal) | 12/13/00 | 5/8/01
212 | Public Availability of Emission Data | 10/16/02 | 12/12/02

EPA proposed a combination of actions consisting of disapproval of Rule 200 (Permits), limited approval and limited disapproval of Rule 207 (Review of New or Modified Sources), repeal of Rule 208 (Standards for Granting Permits to Operate) and approval of Rules 203 (Application), 204 (Cancellation of Applications), 206 (Standards for Granting Applications) and 212 (Public Availability of Emission Data). We noted one specific deficiency in Rule 200 and several deficiencies in Rule 207 that are the basis for the disapproval actions. Please see the proposed notice and the associated TSD for a list of these deficiencies.

II. Public Comment

EPA's proposed action provided a 30-day public comment period. During this time we received no comments.

III. EPA Action

No comments were submitted to change our assessment of the rules as described in our proposed action. Pursuant to section 110(k) of the CAA and for the reasons provided in our proposed action and associated TSD, EPA is finalizing a limited approval and limited disapproval of Rule 207, a full disapproval of Rule 200, full approval of Rules 203, 204, 206 and 212 and the request to repeal Rule 208.

Our full disapproval of Rule 200 means the current SIP approved version of Rule 200—Permits Required will remain in effect. (64 FR 35577 July 1, 1999).

The limited disapproval of Rule 207 triggers an obligation for EPA to promulgate a Federal Implementation Plan unless the State of California corrects the deficiencies, and EPA approves the related plan revisions within two years of the final action.

IV. Incorporation by Reference

In this rule, the EPA is finalizing regulatory text that includes incorporation by reference. In accordance with requirements of 1 CFR 51.5, the EPA is finalizing the incorporation by reference of the MBUAPCD rules described in the amendments to 40 CFR 52.220 set forth below. The EPA has made, and will continue to make, these documents available electronically through www.regulations.gov and in hard copy at the appropriate EPA office (see the ADDRESSES section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: March 4, 2015.
Jared Blumenfeld,
Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220 is amended by adding paragraphs (c)(282)(i)(C)(2) and (3) and (c)(284)(i)(A)(5) and (c)(308)(i)(E) and (c)(453) to read as follows:

§ 52.220 Identification of plan.

* * * * *

(c) * * *

(282) * * *

(i) * * *

(C) * * *

(2) Rule 204, “Cancellation of Applications,” revised on March 21, 2001.

(3) Rule 206, “Standards for Issuing Authorities to Construct and Permits to Operate,” revised on March 21, 2001.

* * * * *

(284) * * *

(i) * * *

(A) * * *

(5) Rule 200, “Permits Required,” revised on December 13, 2000.

* * * * *

(308) * * *

(i) * * *

(E) Monterey Bay Unified Air Pollution Control District.

(1) Rule 203, “Application,” revised October 16, 2002.

(2) Rule 212, “Public Availability of Emission Data,” revised on October 16, 2002.

* * * * *

(453) New and amended regulations for the following APCDs were submitted on May 12, 2011.

(i) Incorporation by reference.

(A) Monterey Bay Unified Air Pollution Control District.

(1) Rule 207, “Review of New or Modified Sources,” revised on April 20, 2011.

[FR Doc. 2015-06705 Filed 3-25-15; 8:45 am]

BILLING CODE 6560-50-P